DEPARTMENT OF THE INTERIOR

National Park Service

Notice of Inventory Completion: University of Colorado Museum, Boulder, CO

AGENCY: National Park Service, Interior.

ACTION: Notice.

Notice is here given in accordance with the Native American Graves Protection and Repatriation Act (NAGPRA), 25 U.S.C. 3003, of the completion of an inventory of human remains and associated funerary objects in the possession of the University of Colorado Museum, Boulder, CO. The human remains and associated funerary objects were removed from Dolores, La Plata, and Montezuma Counties, CO; San Juan County, NM; San Juan County, UT; and an unknown site in the Southwestern United States.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and associated funerary objects was made by University of Colorado Museum professional staff in consultation with representatives of the Hopi Tribe of Arizona; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; Ysleta Del Sur Pueblo of Texas; and Zuni Tribe of the Zuni Reservation, New Mexico.

Prior to 1941, human remains representing a minimum of two individuals were removed from an unknown site close to Dove Creek, Dolores County, CO, by an unknown individual. The human remains were sent anonymously to the University of Colorado Museum in the early 1990s and cataloged into the museum collection (catalog numbers 99509a and 99509b). No known individuals were identified. No associated funerary objects are present.

Based on information sent to the museum with the human remains, including a statement that they are from an “Indian” site, the human remains are reasonably believed to be Native American. Based on the numerous late Basketmaker and Pueblo I-III sites in the Dove Creek area, there is a reasonable belief that the human remains date to circa A.D. 550-1300.

On an unknown date, but probably in 1925, human remains representing a minimum of six individuals were removed from the Morris site, La Plata Canyon, La Plata County, CO, by Earl H. Morris of the University of Colorado Museum, and cataloged into museum collections (catalog numbers 45219a to 45219d). No known individuals were identified. No associated funerary objects are present.

The human remains were removed from either Morris site number 19, 22, or 23. All three sites are in La Plata Canyon, 8 miles south of Red Mesa. Based on the osteological characteristics and excavator's collection history, the human remains are reasonably believed to be Native American. The osteological characteristics indicate the human remains are consistent with better-documented Ancestral Puebloan remains from Southwestern Colorado dating to the Pueblo I period (A.D. 750-900).

On an unknown date, human remains representing a minimum of one individual were removed from a site in Ridges Basin, La Plata County, CO, by an unknown individual. Ridges Basin is 6 miles southwest of Durango, CO, and west of the Animas River. The human remains were acquired by G.W. Hoofnagle in the 1950s, purchased from Mr. Hoofnagle by the University of Colorado Museum in 1961, and cataloged into the museum collection (catalog number 21815a). No known individual was identified. The three associated funerary objects are one Chapin Gray pitcher, one Chapin Gray seed jar, and one Rosa/La Plata Black-on-White bowl.

Ridges Basin is an area of extensive prehistoric occupation. Based on the site location and the associated funerary objects, the human remains are Native American. Based on the style of the associated funerary objects, the human remains are Pueblo I period (A.D. 750-900).

On an unknown date, human remains representing a minimum three individuals were removed from a site or sites near Durango, La Plata County, CO, by an unknown individual. The human remains are reasonably believed to have been excavated in the 1930s or 1940s. Harold Peterson donated the human remains to the museum in the early 1990s and the human remains were cataloged into the museum collection (catalog numbers 99092, 99093, and 99094). No known individuals were identified. No associated funerary objects are present.

Based on information on the provenience of at least two of the sites, which suggests they came from the Ridges Basin area close to Durango, the human remains are reasonably believed to be Native American dating to circa A.D. 750-900.

On an unknown date, human remains representing a minimum of four individuals were removed from an unknown site on the first terrace just above the Mancos River, Montezuma County, CO, by an unknown individual. In 1989, Fred W. Skinner donated the human remains to the University of Colorado Museum and the human remains were cataloged into the museum collection (catalog numbers 44447-1 to 44447-4). No known individuals were identified. No associated funerary objects are present.

Based on the site description by the donor, the human remains are reasonably believed to be Native American and are reasonably believed to be Ancestral Pueblo. Most pueblo ruins in the area date to circa A.D. 550-1300.

In 1914, human remains representing a minimum of one individual were removed from a site near Aztec Ruin, San Juan County, NM, by Mr. Morris. The human remains were donated to the museum by the Peabody Museum of Archaeology and Ethnology, Harvard University, Cambridge, MA, and cataloged into the museum collection (catalog number 00235). No known individual was identified. No associated funerary objects are present.

Based on the archeological context, the human remains are Native American. Based on the proximity to the Aztec Ruin site, the human remains date to approximately A.D. 1100-1300.

In 1916, human remains representing a minimum of one individual were removed from Morris site number 39, located on the western river terrace just north of the junction of the La Plata River and Barker Arroyo in San Juan County, NM, by Mr. Morris of the University of Colorado. Mr. Morris's work was jointly financed by the University of Colorado Museum and the American Museum of Natural History. The collection from this expedition was later consolidated at the University of Colorado Museum through the reimbursement of the American Museum of Natural History in 1923 and were cataloged into the museum collection (catalog number 698). No known individual was identified. No associated funerary objects are present.

Morris site number 39 is a large Ancestral Puebloan Community. Based on archeological context, the human remains are Native American. Based on architecture and ceramics associated with Morris site number 39, the human remains are Ancestral Puebloan dating from circa A.D. 750-1300.

In 1898, human remains representing a minimum of one individual were removed from near Pueblo Pintado, near the mouth of Chaco Canyon, San Juan County, NM, by William Ross. Mr. Morris acquired the human remains from Mr. Ross. Sometime after 1910, the human remains were transferred to the museum where they were cataloged into the collection (catalog number 760). No known individual was identified. No associated funerary objects are present.

Pueblo Pintado is an ancestral Pueblo community. Based on the proximity to Pueblo Pintado and Chaco Canyon, the human remains are reasonably believed to be Native American. Based on the architecture and ceramics associated with Pueblo Pintado and Chaco Canyon, the human remains are reasonably believed to be Ancestral Puebloan. Chaco Canyon occupation dates to approximately A.D. 500-1300.

On an unknown date, human remains representing a minimum of two individuals were removed from Blake Ranch near Farmington, San Juan County, NM, by Mr. Morris of the University of Colorado and cataloged into the museum collection (catalog numbers 762-1 and 762-2). No known individuals were identified. No associated funerary objects are present.

Based on Mr. Morris' assessment of the human remains, they are reasonably believed to be Native American. Based on geographic location and mode of burial, the human remains are Ancestral Puebloan.

On an unknown date, human remains representing a minimum of one individual were removed from an unknown site in the Southwestern United States, by an unknown individual. According to museum documentation, a seed jar was found with the human remains. The human remains were cataloged into the museum collection (catalog number 22264), but the seed jar is not in the collection. No known individual was identified. No associated funerary objects are present.

Based on the association with the seed jar, the human remains are reasonably believed to be Native American. Based on the style of the associated funerary object, the human remains are Ancestral Puebloan dating to circa A.D. 750-1100.

Between 1937 and 1940, human remains representing a minimum of two individuals were removed from Monument Ruin (42SA22760), San Juan County, UT, by Leonard Leh, an assistant professor at the University of Colorado. The site had been purchased by Mr. Leh prior to excavation and may have worked as a private collector at the site. In 1956, Mr. Leh donated the human remains to the museum where they were cataloged into the museum collection (catalog numbers 6808, 6809, 6811, and 6812). No known individuals were identified. The two associated funerary objects are one Mesa Verde Black-on-white mug and one McElmo Black-on-White ladle.

Monument Ruin, also known as the Wilson Ruins or Hedley Site, is adjacent to a tributary of Monument Canyon near the Colorado-Utah border and consists of three separate village areas covering over a quarter section of land in total area. The human remains were found in the westernmost portion of the site, described in the site report as the West Hill Ruins. Based on the provenience, associated funerary objects, archeological context, and cranial shaping or cradleboarding, the human remains are Native American. Based on the style of architecture and ceramics at the site, the use of the portion of the site from which the human remains were removed dates to circa A.D. 1080-1240. Based on the style of ceramic vessels, the human remains date to approximately A.D. 1100-1225.

All individuals listed in this Notice of Inventory Completion are Ancestral Puebloan based on the archeological context, morphology, or site dating. Based on a preponderance of evidence, a shared group identity can be traced between modern Puebloan peoples and Ancestral Puebloan peoples based on oral tradition and scientific studies. Modern Puebloan peoples are members of the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico. Oral-tradition evidence, which consisted of migration stories, clan histories, and origin stories was provided by the Hopi Tribe, Navajo Nation, Pueblo of Acoma, Pueblo of Isleta, Pueblo of Jemez, Pueblo of Laguna, Pueblo of Nambe, Pueblo of Pojoaque, Pueblo of San Ildefonso, Pueblo of San Juan, Pueblo of Santa Ana, Pueblo of Santa Clara, Pueblo of Taos, Pueblo of Tesuque, Pueblo of Ysleta del Sur, Pueblo of Zia, and Pueblo of Zuni. Folkloric evidence in the form of songs was provided by Pueblo of Acoma, Pueblo of Cochiti, Pueblo of Isleta, Pueblo of Nambe, and Pueblo of San Ildefonso. Pueblo of Acoma, Pueblo of Nambe, Pueblo of San Ildefonso, and Pueblo of Taos provided linguistic evidence rooted in place names. Pueblo of Cochiti, Pueblo of Nambe, Pueblo of San Ildefonso, and Pueblo of Santa Clara provided archeological evidence based on architecture and material culture.

According to scientific studies and oral tradition, the Navajo share some cultural practices with modern Puebloan peoples; and during consultation, tribal representatives of the Navajo Nation emphasized their long presence in the Four Corners and their origin in this area, but there is not a preponderance of evidence to support Navajo cultural affiliation to the human remains described in this notice.

Officials of the University of Colorado Museum have determined that, pursuant to 25 U.S.C. 3001 (9-10), the human remains described above represent the physical remains of 24 individuals of Native American ancestry. Officials of the University of Colorado Museum have also determined that, pursuant to 25 U.S.C. 3001 (3)(A), the five objects described above are reasonably believed to have been placed with or near individual human remains at the time of death or later as part of the death rite or ceremony. Lastly, officials of the University of Colorado Museum have determined that, pursuant to 25 U.S.C. 3001 (2), there is a relationship of shared group identity that can be reasonably traced between the Native American human remains and the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico.

Representatives of any other Indian tribe that believes itself to be culturally affiliated with the human remains and associated funerary objects should contact Steve Lekson, Curator of Anthropology, University of Colorado Museum, Henderson Building, Campus Box 218, Boulder, CO 80309-0218, telephone (303) 492-6671, before September 18, 2006. Repatriation of the human remains and associated funerary objects to the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico may proceed after that date if no additional claimants come forward.

The University of Colorado Museum is responsible for notifying the Hopi Tribe of Arizona; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; Ysleta Del Sur Pueblo of Texas; and Zuni Tribe of the Zuni Reservation, New Mexico.

Dated: July 24, 2006
Sherry Hutt
Manager, National NAGPRA Program

[FR Doc. E6-13602 Filed 8-16-06; 8:45 am]

BILLING CODE 4312-50-S